DEPARTMENT OF THE INTERIOR

Bureau of Indian Affairs

Table Bluff Reservation—Wiyot Tribe—Liquor Control Ordinance

AGENCY: Bureau of Indian Affairs, Interior.

ACTION: Notice.

SUMMARY: This notice publishes the Table Bluff Reservation “ Wiyot Tribe Liquor Control Ordinance. The Ordinance regulates and controls the possession, sale and consumption of liquor within the Table Bluff Reservation. The land is located on trust land and this Ordinance allows for the possession and sale of alcoholic beverages within the Table Bluff's Reservation and will increase the ability of the tribal government to control the tribe's liquor distribution and possession, and at the same time will provide an important source of revenue for the continued operation and strengthening of the tribal government and the delivery of tribal services.

EFFECTIVE DATE: This Ordinance is effective on June 17, 2005.

FOR FURTHER INFORMATION CONTACT: Clay Gregory, Acting Regional Director, Pacific Regional Office, 2800 Cottage Way, Sacramento, CA 95825; Telephone (916) 978-6000; or Ralph Gonzales, Office of Tribal Services, 1951 Constitution Avenue, NW., Mail Stop 320-SIB, Washington, DC 20240; Telephone (202) 513-7629.

SUPPLEMENTARY INFORMATION: Pursuant to the Act of August 15, 1953, Pub. L. 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Table Bluff Reservation—Wiyot Tribal Council adopted its Liquor Control Ordinance by Resolution No. 04-12 on July 24, 2004. The purpose of this Ordinance is to govern the sale, possession and distribution of alcohol within the Table Bluff Reservation. This notice is published in accordance with the authority delegated by the Secretary of the Interior to the Principal Deputy Assistant Secretary—Indian Affairs. I certify that this Liquor Ordinance, of the Table Bluff Reservation—Wiyot Tribal Council, was duly adopted by the Tribal Council on July 24, 2004.

Dated: June 13, 2005.
Michael D. Olsen,
Acting Principal Deputy Assistant Secretary—Indian Affairs.

The Table Bluff Liquor Control Ordinance reads as follows:

Table Bluff Liquor Control Ordinance

Be it enacted by the General Council of the Table Bluff Reservation “ Wiyot Tribe:

Article 1: Name. This ordinance shall be known as the Table Bluff Liquor Control Ordinance.

Article 2: Authority. This ordinance is enacted pursuant to the Act of August 15, 1953, (Pub. L. 83-277, 67 Stat. 588, 18 U.S.C. 1161) and Article VII, Section 2(a) of the Constitution and Bylaws of the Table Bluff Reservation—Wiyot Tribe.

Article 3: Purpose. The purpose of this ordinance is to allow for the safe and regulated sale and possession of alcohol within Lands under the Jurisdiction of the Table Bluff Reservation—Wiyot Tribe in order to provide a source of revenue for the continued operation of the tribal government, the economic viability of tribal enterprises, and the delivery of tribal government services.

Article 4: Jurisdiction. This Liquor Control Ordinance shall apply to all lands now or in the future under the jurisdiction of the Table Bluff Reservation—Wiyot Tribe, including the old Table Bluff Rancheria, the new Table Bluff Reservation, and any lands which shall in the future be restored to the Tribe's jurisdiction. This Ordinance is in conformity with the laws of the State of California as required by 18 U.S.C. 1161, and with all applicable federal laws.

Article 5: Definitions. Unless a different meaning is clearly indicated in this Ordinance, the terms used herein shall have the same meaning as in the California Alcohol Beverage Control Act, Cal. Business and Professions Code Section 2300 et seq.

(a) “General Council” means the Governing Body holding supreme power of the Table Bluff Reservation—Wiyot Tribe as defined in Article VI, Section 1 of the Constitution and Bylaws of the Table Bluff Reservation—Wiyot Tribe.

(b) “Lands under the Jurisdiction of the Table Bluff Reservation—Wiyot Tribe” means and includes all lands now or in the future subject to the lawful jurisdiction of the Tribe, including the old Table Bluff Rancheria, the new Table Bluff Reservation, and any lands which shall in the future be restored to the Tribe's jurisdiction.

(c) “Table Bluff Reservation” means and includes all lands within the exterior boundaries of the Table Bluff Reservation.

(d) “Tribal Council” means the Table Bluff Reservation—Wiyot Tribal Council as defined in Article VI, Section 3 of the Constitution and Bylaws of the Table Bluff Reservation—Wiyot Tribe.

(e) “Tribe” means the Table Bluff Reservation—Wiyot Tribe.

Article 6: Effective Date. This ordinance shall be effective as of the date of its publication in the Federal Register.

Article 7: Possession of Alcohol. The introduction and possession of alcoholic beverages shall be lawful within Lands under the Jurisdiction of the Table Bluff Reservation—Wiyot Tribe; provided that such introduction or possession is in conformity with the laws of the State of California.

Article 8: Retail Sales of Alcohol. The sale of alcoholic beverages shall be lawful within Lands under the Jurisdiction of the Table Bluff Reservation—Wiyot Tribe; provided that such sales are in conformity with the laws of the State of California and are made pursuant to a license issued by the Tribe.

Article 9: Manufacture of Alcohol. The manufacture of beer and wine shall be lawful within Lands under the jurisdiction of the Table Bluff Reservation—Wiyot Tribe, provided that such manufacture is in conformity with the laws of the State of California and pursuant to a license issued by the Tribe.

Article 10: Age Limits. The legal age for possession or consumption of alcohol within Lands under the Jurisdiction of the Table Bluff Reservation—Wiyot Tribe shall be the same as that of the State of California, which is currently 21 years. No person under the age of 21 years shall purchase, possess or consume any alcoholic beverage.

Article 11: Licensing. Tribal Council shall have the power to establish procedures and standards for tribal licensing of liquor sales within Lands under the Jurisdiction of the Table Bluff Reservation—Wiyot Tribe, including the setting of a license fee schedule, and shall have the power to publish and enforce such standards; provided that no tribal license shall issue except upon showing of satisfactory proof that the applicant is duly licensed by the State of California. The fact that an applicant for a tribal license possesses a license issued by the State of California shall not provide the applicant with an entitlement to a tribal license; Tribal Council may in its discretion set standards which are more, but in no case less, stringent than those of the State.

Article 12: Enforcement.

(a) Tribal Council shall have the power to develop, enact, promulgate and enforce regulations as necessary for the enforcement of this ordinance and to protect the public health, welfare and safety of the Tribe and Lands under the Jurisdiction of the Table Bluff Reservation—Wiyot Tribe, provided that all such regulations shall conform to and not be in conflict with any tribal, federal or state law. Regulations enacted pursuant hereto may include provisions for suspension or revocation of tribal liquor licenses, reasonable search and seizure provisions and civil and criminal penalties for violations of this ordinance to the full extent permitted by federal law and consistent with due process.

(b) Tribal law enforcement personnel and security personnel duly authorized by Tribal Council shall have the authority to enforce this ordinance by confiscating any liquor sold, possessed, distributed, manufactured or introduced within Lands under the Jurisdiction of the Table Bluff Reservation—Wiyot Tribe in violation of this ordinance or of any regulations duly adopted pursuant to this ordinance.

(c) Tribal Council shall have the exclusive jurisdiction to hold hearings on violations of this ordinance and any procedures or regulations adopted pursuant to this ordinance; to promulgate appropriate procedures governing such hearings; to determine and enforce penalties or damages for violations of this ordinance; and to delegate to a subordinate hearing officer or panel the authority to take any or all of the foregoing actions on its behalf.

Article 13: Prior Inconsistent Enactments. Any prior tribal laws, resolutions or ordinances which are inconsistent with this ordinance are hereby repealed to the extent they are inconsistent with this ordinance.

Article 14: Sovereign Immunity. Nothing contained in this ordinance is intended to, nor does in any way, limit, alter, restrict, or waive the sovereign immunity of the Tribe or any of its agencies, agents or officials from unconsented suit or action of any kind.

Article 15: Taxation. Nothing contained in this ordinance is intended to, nor does in any way limit or restrict the Tribe's ability to impose any tax upon the sale or consumption of alcohol. The Tribe retains the right to impose such taxes by appropriate ordinance to the full extent permitted by federal law.

Article 16: Severability. If any provision of this ordinance is found by any agency or court of competent jurisdiction to be unenforceable, the remaining provisions shall be unaffected thereby.

Article 17: Amendment. This ordinance may be amended by majority vote of the Tribal Council, such amendment to become effective upon publication in the Federal Register by the Secretary of the Interior.

Certification

This is to certify that the above ordinance was enacted by the General Council of the Table Bluff Reservation—Wiyot Tribe at a duly called meeting on July 24, 2004 by a vote of 12 for, 2 against, and 1 abstention.

Dated: July 26, 2004.

Cheryl A. Seidner,

Tribal Chairperson.

Dated: July 26, 2004.

Irine J. Carlson,

Tribal Secretary.

[FR Doc. 05-11983 Filed 6-16-05; 8:45 am]

BILLING CODE 4310-4-P